DEPARTMENT OF AGRICULTURE

Agricultural Marketing Service

[Docket No. FV-03-330]

United States Standards for Grades of Apple Juice From Concentrate

AGENCY: Agricultural Marketing Service, USDA.

ACTION: Notice; withdrawal.

SUMMARY: The Agricultural Marketing Service (AMS) is withdrawing the notice soliciting comments on its proposed United States Standards for Grades of Apple Juice from Concentrate. After reviewing and considering the comments received, the Agency has decided not to proceed with the action.

EFFECTIVE DATE: July 14, 2003.

FOR FURTHER INFORMATION CONTACT: Lydia E. Berry, Processed Products Branch, Fruit and Vegetable Programs, Agricultural Marketing Service, U.S. Department of Agriculture, Room 0709, South Building; STOP 0247, Washington, DC 20250; faxed to (202) 690-1527; or e-mailed to lydia.berry@usda.gov.

Background

On May 28, 1996, Processed Apples Institute, (PAI) Inc., an association of producers of processed apple products, requested that USDA develop a standard for apple juice from concentrate to be used by the industry. The petitioner provided information on style, and descriptions to AMS to develop the standard. After researching the issue, AMS issued a discussion draft in December 1996 and distributed copies for input to the petitioner, and the National Food Processors Association (NFPA). Input from the above groups was used to develop the proposed standard. In December 1998, after several attempts to solicit comments on the draft, the Agency suspended further action on the petition due to lack of industry interest. In late 1999, PAI requested that the Agency resume work on the proposed standard, and submitted additional criteria for evaluation of defects in January 2000.

Based on the results of the information previously gathered, and evaluation of the submitted criteria, AMS proposed to establish standards for apple juice from concentrate following the standard format for U.S. Grade Standards. A notice was published in the Federal Register on November 21, 2001 (66 FR 58430 to 58431) requesting comments on the proposed United States Standards for Grades of Apple Juice From Concentrate. The action would create grade standards for apple juice from concentrate that would include a description of the product, style, grades, ascertaining the grade by sample, and ascertaining the grade by lot. The proposed standards would provide a common language for trade, a means of measuring value in the marketing of apple juice from concentrate, and provide guidance in the effective utilization of apple juice from concentrate.

Prior to the close of the comment period, Congressional representatives from a major apple producing area requested the Agency provide additional time for interested persons to comment on the proposed standards. The Congressmen stated in their letters that extending the comment period would enable the many growers and processors in their districts that voiced their concern to their offices to respond to our solicitation for comments. After reviewing the request, the Department reopened and extended the comment period in order to allow sufficient time for all interested persons to file comments. A notice was published in the Federal Register on March 20, 2002 (67 FR 12958) providing for an additional 30 day comment period.

AMS received a total of twenty-four comments in response to the notice published in the Federal Register.

Two comments were in favor of the proposal to establish the standards, twenty-one comments were opposed to the proposal for various reasons, and one requested changes and did not express a position.

The comments reflect a diverse spectrum of technical views as well as considerable opposition within the industry to the proposed standards.

After reviewing and considering the comments received, the Agency has decided not to proceed with the action. Therefore, the notice published November 21, 2001 (66 FR 58430 to 58431) is withdrawn.

Authority: 7 U.S.C 1621-1627.

Dated: July 7, 2003.
A.J. Yates,
Administrator, Agricultural Marketing Service.

[FR Doc. 03-17669 Filed 7-11-03; 8:45 am]

BILLING CODE 3410-02-P